COMMISSION ON CIVIL RIGHTS

Agenda and Notice of Public Meeting of the Maine Advisory Committee

AGENCY: Commission on Civil Rights.

ACTION: Announcement of planning meeting.

SUMMARY: Notice is hereby given, pursuant to the provisions of the rules and regulations of the U.S. Commission on Civil Rights (Commission), and the Federal Advisory Committee Act (FACA), that a meeting of the Maine Advisory Committee to the Commission will convene at 1:00 p.m. at on Tuesday, August 4, 2015, at Lewiston City Hall, 27 Pine Street, Lewiston, Maine 04240. The purpose of the subcommittee meeting is to review projects completed during the committee's appointment term and discuss recruitment efforts for the committee's upcoming term.

Members of the public are invited to submit written comments; the comments must be received in the regional office by Friday, September 4, 2015. Written comments may be mailed to the Eastern Regional Office, U.S. Commission on Civil Rights, 1331 Pennsylvania Avenue, Suite 1150, Washington, DC 20425, faxed to (202) 376-7548, or emailed to Evelyn Bohor at ero@usccr.gov. Persons who desire additional information may contact the Eastern Regional Office at (202) 376-7533.

Records and documents discussed during the meeting will be available for public viewing as they become available at https://database.faca.gov/committee/meetings.aspx?cid=252 and clicking on the “Meeting Details” and “Documents” links. Records generated from this meeting may also be inspected and reproduced at the Eastern Regional Office, as they become available, both before and after the meeting. Persons interested in the work of this advisory committee are advised to go to the Commission's Web site, www.usccr.gov, or to contact the Eastern Regional Office at the above phone number, email or street address.

Agenda

Review of Projects Completed During Appointment Term

Maine Advisory Committee Members

Recruitment for Future Term

Barbara J. de La Viez, Designated Federal Official

DATES: Tuesday, August 4, 2015 (EDT).

ADDRESSES: Lewiston City Hall, 27 Pine Street, Lewiston, Maine 04240.

FOR FURTHER INFORMATION CONTACT: Ivy L. Davis at ero@usccr.gov, or 202-376-7533.

Dated: July 23, 2015.
David Mussatt,
Chief, Regional Programs Unit.

[FR Doc. 2015-18434 Filed 7-27-15; 8:45 am]

BILLING CODE 6335-01-P